DEPARTMENT OF HOMELAND SECURITY

[Docket No. ICEB-2023-0011]

Privacy Act of 1974; System of Records

AGENCY: Department of Homeland Security, U.S. Immigration and Customs Enforcement.

ACTION: Notice of a modified system of records.

SUMMARY: In accordance with the Privacy Act of 1974, the Department of Homeland Security (DHS) proposes to modify and reissue a current DHS system of records titled, “DHS/U.S. Immigration and Customs Enforcement (ICE)-011 Criminal Arrest Records and Immigration Enforcement Records (CARIER) System of Records.” DHS/ICE collects, uses, and maintains CARIER records to support the identification, apprehension, and removal of aliens (a term defined in law but used hereinafter as “non-citizens”) unlawfully entering or present in the United States in violation of the Immigration and Nationality Act (INA), including fugitive non-citizens. DHS/ICE also uses CARIER to support the identification and arrest of individuals (both citizens and non-citizens) who commit violations of federal laws enforced by DHS. DHS/ICE is reissuing this system of records notice to update the purpose of the system, add new categories of individuals, add new categories of records, and modify, remove, and propose new routine uses. Additionally, this notice includes non-substantive changes to simplify the formatting and text of the previously published notice. This modified system will be included in the Department's inventory of record systems.

DATES: Submit comments on or before August 5, 2024. This modified system will be effective August 5, 2024.

ADDRESSES: You may submit comments, identified by docket number ICEB-2023-0011 by one of the following methods:

• Federal e-Rulemaking Portal: http://www.regulations.gov. Follow the instructions for submitting comments.

• Fax: 202-343-4010.

• Mail: Mason C. Clutter, Chief Privacy Officer, Privacy Office, Department of Homeland Security, Washington, DC 20528-0655.

Instructions: All submissions received must include the agency name and docket number ICEB-2023-0011. All comments received will be posted without change to http://www.regulations.gov, including any personal information provided.

Docket: For access to the docket to read background documents or comments received, please visit http://www.regulations.gov.

FOR FURTHER INFORMATION CONTACT: For general questions, please contact: Ieshah Geary, Privacy Officer, Office of Information Governance and Privacy, iceprivacy-generalmailbox@ice.dhs.gov, U.S. Immigration and Customs Enforcement, 500 12th Street SW, Mail Stop 5004, Washington, DC 20536. For privacy questions, please contact: Mason C. Clutter, (202) 343-1717, Privacy@hq.dhs.gov, Chief Privacy Officer, Privacy Office, Department of Homeland Security, Washington, DC 20528.

SUPPLEMENTARY INFORMATION:

I. Background

In accordance with the Privacy Act of 1974, 5 U.S.C. 552a, DHS/ICE proposes to modify and reissue a current DHS system of records titled, “DHS/ICE-011 Criminal Arrest Records and Immigration Enforcement Records (CARIER) System of Records.” DHS/ICE maintains the CARIER system of records to support the identification, apprehension, and removal of individuals unlawfully entering or present in the United States; and to support the identification and arrest of individuals who commit violations of federal laws enforced by DHS.

DHS/ICE is modifying and reissuing this system of records notice to update the purpose of the system to include the following purposes: (1) to monitor individuals unlawfully entering or present in the United States in violation of the Immigration and Nationality Act, including non-detained non-citizens; (2) to support geolocation tracking, biometric verification, and rapid enrollment of non-citizens into the ICE Enforcement and Removal Operations (ERO) Alternatives to Detention (ATD) program; and (3) to improve coordination necessary to efficiently transfer/transport individuals from the U.S. Customs and Border Protection (CBP) to ICE and subsequently from ICE to various family residential centers and detention facilities. DHS/ICE is also updating the categories of individuals covered by this system of records to include those individuals on the “non-detained” docket and Alternatives to Detention program. Additionally, DHS/ICE is updating the categories of records to include geolocation records derived from technologies such as the Global Positioning System (GPS) and records pertaining to family unit identification number (FAMU ID).

ICE is also removing several routine uses from the previous system of records notice. After careful review and consideration, ICE is removing previous redundancies to ensure the System of Records Notice is focused solely on the system's purpose, categories of individuals, records, and routine uses for the identification, apprehension, and removal of non-citizens unlawfully present in the United States. The previous routine uses have been removed: Routine Use O, Routine Use S, Routine Use V, Routine Use Z, Routine Use AA, Routine Use BB, Routine Use JJ, and Routine Use YY.

Finally, DHS/ICE is proposing to modify and add the following routine uses:

• Modify routine use (E) and add routine use (F) to allow DHS/ICE to share records with appropriate federal agencies or entities when reasonably necessary to respond to a breach of personally identifiable information and to prevent, minimize, or remedy the risk of harm to individuals or the Federal Government, or assist an agency in locating individuals affected by a breach in accordance with Office of Management and Budget (OMB) Memorandum M-17-12 “Preparing for and Responding to a Breach of Personally Identifiable Information,” (Jan. 3, 2017).

• Add routine use (XX) to allow ICE to share records through the Law Enforcement Information Sharing Service (LEISS) with federal, state, local, tribal, regional, foreign, or international law enforcement agencies that are party to a LEISS Memorandum of Agreement. LEISS is a non-public facing web service that functions as a bi-directional data sharing system between DHS and member agencies for the purpose of criminal law enforcement, homeland/national security, or applicant background investigations.

• Add routine use (YY) to allow ICE to share information with an appropriate federal, state, local, tribal, territorial, foreign, or international agency and third-party organizations assisting in the repatriation of non-citizens who are returning voluntarily to their home countries.

The Routine Use Section is also being renumbered to account for the added and removed routine uses listed above. Non-substantive language changes have been made to the added routine uses to clarify disclosure policies that are standard across DHS and to align with previously published DHS system of records notices.

Consistent with DHS's information sharing mission, information stored in the DHS/ICE-011 CARIER System of Records may be shared with other DHS Components that have a need to know the information to carry out their national security, law enforcement, immigration, intelligence, or other homeland security functions. In addition, DHS/ICE may share information with appropriate federal, state, local, tribal, territorial, foreign, or international government agencies consistent with the routine uses set forth in this system of records notice. This modified system will be included in DHS's inventory of records systems.

II. Privacy Act

The fair information practice principles found in the Privacy Act underpin the statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, and similarly, the Judicial Redress Act (JRA) provides a statutory right to covered persons to make requests for access to and amendment of covered records, as defined by the Judicial Redress Act, along with judicial review for denials of such requests. In addition, the Judicial Redress Act prohibits disclosures of covered records, except as otherwise permitted by the Privacy Act.

Below is the description of the DHS/ICE-011 CARIER System of Records.

In accordance with 5 U.S.C. 552a(r), DHS has provided a report of this system of records to the Office of Management and Budget and to Congress.

SYSTEM NAME AND NUMBER:

Department of Homeland Security (DHS)/U.S. Immigration and Customs Enforcement (ICE)-011 Criminal Arrest Records and Immigration Enforcement Records (CARIER).

SECURITY CLASSIFICATION:

Unclassified. The data may be retained on classified networks, but this does not change the nature and character of the data until it is combined with classified information.

SYSTEM LOCATION:

Records are maintained in DHS/ICE information technology (IT) systems (e.g., the Enforcement Integrated Database (EID) and their associated ICE applications. and contractor-owned IT systems, including those supporting the ICE Alternatives to Detention program). Records are also maintained in associated electronic and paper files located at ICE Headquarters in Washington, DC, ICE field and attaché offices, contractor offices, and detention facilities operated by or on behalf of ICE, or that otherwise house individuals arrested or detained by ICE. Finally, records are replicated from the operational DHS/ICE IT systems and maintained on DHS unclassified and classified networks used for analysis and vetting.

SYSTEM MANAGER(S):

Executive Associate Director, Office of Enforcement and Removal Operations, U.S. Immigration & Customs Enforcement, 500 12th Street SW, Washington, DC 20536.

AUTHORITY FOR MAINTENANCE OF THE SYSTEM:

Authority for maintaining this system is in sections 103, 235, 236, 274, 287, and 290 of the Immigration and Nationality Act (INA), 8 United States Code, sections 1103, 1225, 1226, 1324, 1357, 1360, and 1365(a)(b); Title 18, United States Code, Chapters 27, 77, 85, 95, 109A, 110, 113, and 117; Title 31, United States Code, Chapter 53, Subchapter II; Title 50 Appendix, United States Code; The Tariff Act of 1930; Justice for All Act of 2004 (Pub. L. 108-405); DNA Fingerprint Act of 2005 (Pub. L. 109-162); Adam Walsh Child Protection and Safety Act of 2006 (Pub. L. 109-248); and 28 CFR part 28, “DNA-Sample Collection and Biological Evidence Preservation in the Federal Jurisdiction.”

PURPOSE(S) OF THE SYSTEM:

The purposes of this system are:

1. To support the identification, arrest, charging, monitoring, detention, and/or removal of individuals unlawfully entering or present in the United States in violation of the INA, including fugitive non-citizens, non-detained non-citizens, and non-lawful re-entrants.

2. To support the identification and arrest of individuals (both citizens and non-citizens) who commit violations of criminal laws enforced by DHS/ICE.

3. To track the process and results of administrative and criminal proceedings, including compliance with court orders and hearing dates, against individuals who are alleged to have violated the INA or other laws enforced by DHS.

4. To support the grant or denial of parole and tracking of individuals who seek or receive parole into the United States.

5. To provide criminal and immigration history information during DHS enforcement encounters, and to support background checks on applicants for DHS immigration benefits (e.g., employment authorization and petitions).

6. To identify potential criminal activity, immigration violations, and threats to homeland security, to ensure public safety, and to uphold laws enforced by DHS.

7. To support the geolocation tracking, biometric verification, and rapid enrollment of non-citizens into the ICE Alternatives to Detention program.

8. To improve the coordination necessary to efficiently transfer/transport individuals from CBP to ICE and from ICE to various detention facilities.

CATEGORIES OF INDIVIDUALS COVERED BY THE SYSTEM:

Categories of individuals covered by this system include: (1) individuals arrested, detained, or removed from the United States for criminal or administrative violations of the INA, or individuals issued a Notice to Appear in immigration court; (2) individuals who are the subject of an immigration detainer issued to another law enforcement or custodial agency; (3) individuals arrested by ICE for violations of criminal laws enforced by ICE or DHS; (4) individuals who fail to leave the United States after receiving a final order of removal, deportation, or exclusion, or who fail to report to ICE for removal after receiving notice to do so (fugitive non-citizens); (5) individuals who non-lawfully re-enter the United States after departing pursuant to an order of voluntary departure or being removed from the United States (non-lawful re-entrants); (6) individuals who request to be removed at their own expense or are eligible for voluntary removal from the United States pursuant to section 250 of the INA; (7) individuals who are granted parole into the United States under section 212(d)(5) of the INA (parolees); (8) individuals awaiting immigration proceedings under a “non-detained” or Alternatives to Detention program; (9) other individuals whose information may be collected or obtained during the course of an immigration enforcement or criminal matter, such as witnesses, associates, and relatives; (10) persons who post or arrange bond for the release of an individual from ICE detention, or receive custodial property of a detained non-citizen; (11) prisoners of the U.S. Marshals Service held in ICE detention facilities; and (12) attorneys or representatives who represent individuals listed in the categories above.

CATEGORIES OF RECORDS IN THE SYSTEM:

Biographic, biometric, descriptive, historical, and other identifying data, including:

• Full name;

• Alias(es);

• A-Number;

• Social Security number (SSN);

• Date of birth;

• Place of birth;

• Nationality;

• Fingerprint Identification Number (FIN);

• Federal Bureau of Investigation (FBI) number;

• Other unique identifying numbers (e.g., federal, state, local, and tribal identification numbers);

• Government-issued identification (e.g., passport, driver's license):

○ Document type;

○ Issuing organization;

○ Document number;

○ Expiration date;

• Visa information;

• Contact or location information (e.g., known or possible addresses, phone numbers);

• Employment history;

• Education history;

• Immigration history (e.g., citizenship/naturalization certificate number, removals, explanations);

• Domestic and foreign criminal history (e.g., arrest, charges, dispositions, and sentencing, corresponding dates, jurisdictions);

• Physical description (e.g., height, weight, eye color, hair color, race, ethnicity, identifying marks like scars, tattoos, or birthmarks); and

• Biometric data (i.e., fingerprints, voiceprints, iris images, photographs, facial verification images/templates, and DNA samples).

○ DNA samples required by DOJ regulation (see 28 CFR part 28) are collected and sent to the FBI. DNA samples are not retained or analyzed by DHS, nor does ICE receive or maintain the results of the FBI's DNA analysis (i.e., DNA sequences).

○ Information pertaining to ICE's collection of DNA samples, limited to the date and time of successful collection and confirmation from the FBI that the sample was able to be sequenced, is maintained by ICE and DHS.

Case-related data:

• Case number;

• Family unit identification number ID numbers;

• Record number;

• Case category;

• Description of charges and disposition of arrest;

• Case agent;

• Data initiated and completed;

• Location-related data, including geotags from metadata associated with other record categories collected; geographical indicators; and geolocation information (e.g., GPS) derived from the ICE Alternatives to Detention program;

• National Sex Offender Registry (NSOR) status; and

• Other data describing an event involving alleged violations of criminal or immigration law (i.e., location; date; time; type of criminal or immigration law violations alleged; type of property involved; use of violence, weapons, or assault against DHS personnel or third parties; attempted escape; and other related information).

Information presented to or collected by ICE during immigration and law enforcement proceedings or activities:

• Date of birth;

• Place of birth;

• Marital status;

• Education history;

• Employment history;

• Travel history; and

• Other information derived from affidavits, certificates, manifests, and other documents. This data typically pertains to subjects, relatives, associates, and witnesses.

Detention data on non-citizens:

• Immigration detainers issued;

• Transportation information;

• Detention-related identification numbers;

• Detention facility;

• Security, risk, and custody classification;

• Custody recommendation and status;

• Flight risk indication;

• Book-in/book-out date and time;

• Mandatory detention and criminal flags;

• Aggravated felon status;

• Other alerts (e.g., gang affiliation, community ties, health accommodation, humanitarian or medical considerations);

• Information about a non-citizen's release from custody on bond, recognizance, or supervision;

• Information related to prosecutorial discretion determinations;

• Property inventory and receipt;

• Information related to disciplinary issues or grievances;

• Documents and video recordings related to alleged misconduct and other incidents involving detainees; and

• Other detention-related information (e.g., documentation of an allegation of sexual abuse or assault, documentation of strip and body cavity searches, documentation of reasons for segregation or other housing placement, documentation of participation in the orientation process).

Detention data for U.S. Marshals Service prisoners:

• Full name;

• Date of birth;

• Country of birth;

• Identification numbers (e.g., detainee, FBI, state);

• Book-in/book-out date and time; and

• Security classification.

Limited health information relevant to an individual's placement in an ICE detention facility or transportation requirements:

• Medical alerts, mental competency, or general information on physical disabilities or other special needs or vulnerabilities to facilitate placement in a facility or bed that best accommodates these needs. Medical records about individuals in ICE custody (i.e., records relating to the diagnosis or treatment of individuals) are maintained in DHS/ICE-013 Alien Medical Records System of Records.

Progress, status, and final result of removal, prosecution, and other DHS processes and related appeals:

• Information relating to criminal convictions;

• Incarceration;

• Travel documents; and

• Other information pertaining to the actual removal of non-citizens from the United States.

Contact, biographical, and identifying data about Relatives, Attorneys, Representatives, Associates, or Witnesses of a noncitizen in proceedings initiated or conducted by DHS may include:

• Full name;

• Date of birth;

• Place of birth; and

• Contact or location information (e.g., addresses, phone numbers, and business or agency name).

Data concerning personnel of other agencies that arrested, or assisted or participated in the arrest or investigation of, or are maintaining custody of an individual whose arrest record is contained in this system of records may include:

• Full name;

• Title; and

• Contact or location information (e.g., addresses, phone numbers, and business or agency name).

Data about persons who post or arrange an immigration bond for the release of an individual from ICE custody, or receive custodial property of an individual in ICE custody may include:

• Full name;

• Address;

• Phone numbers; and

• Social Security number.

Recordings of detainee telephone calls when responding as part of an alternative to detention program or of detainee calls made in detention facilities. Information about these calls may include:

• Date;

• Time;

• Duration; and

• Phone number called. (Note: protected telephone calls, such as calls with an attorney, are not recorded and information about protected telephone calls is not retained.)

Information related to detainees' accounts for telephone or commissary services in a detention facility.

RECORD SOURCE CATEGORIES:

Records are obtained from several sources. In general, information is obtained from individuals covered by this system, and other federal, state, local, tribal, or foreign governments. More specifically, DHS/ICE-011 records derive from the following sources:

(a) Individuals covered by the system and other individuals (e.g., witnesses, family members);

(b) Other federal, state, local, tribal, or foreign governments and government information systems;

(c) Business records;

(d) Evidence, contraband, and other seized material; and

(e) Public and commercial sources, including social media.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the United States Attorneys, or other federal agencies conducting litigation or in proceedings before any court, adjudicative, or administrative body, when it is relevant and necessary to the litigation and one of the following is a party to the litigation or has an interest in such litigation:

1. DHS or any component thereof;

2. Any employee or former employee of DHS in their official capacity;

3. Any employee or former employee of DHS in their individual capacity when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. secs. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the Federal Government, or national security; and (3) the disclosure made to such agencies, entities, and persons is reasonably necessary to assist in connection with DHS's efforts to respond to the suspected or confirmed breach or to prevent, minimize, or remedy such harm.

F. To another federal agency or federal entity when DHS determines that information from this system of records is reasonably necessary to assist the recipient agency or entity in (1) responding to a suspected or confirmed breach or (2) preventing, minimizing, or remedying the risk of harm to individuals, the recipient agency or entity (including its information systems, programs, and operations), the federal government, or national security resulting from a suspected or confirmed breach.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

I. To prospective claimants and their attorneys for the purpose of negotiating the settlement of an actual or prospective claim against DHS or its current or former employees, in advance of the initiation of formal litigation or proceedings.

J. To appropriate federal, state, local, tribal, territorial, or foreign government agencies, as well as to other individuals and organizations during the course of an investigation by DHS or the processing of a matter under DHS's jurisdiction, or during a proceeding within the purview of immigration and nationality laws, when DHS deems that such disclosure is necessary to carry out its functions and statutory mandates or to elicit information required by DHS to carry out its functions and statutory mandates.

K. To federal, state, local, tribal, or territorial government agencies, or other entities or individuals, or through established liaison channels to selected foreign governments, to provide intelligence, counterintelligence, or other information for the purposes of national security, intelligence, counterintelligence, or antiterrorism activities authorized by U.S. law, Executive Order, or other applicable national security directive.

L. To federal and foreign government intelligence or counterterrorism agencies or components when DHS becomes aware of an indication of a threat or potential threat to national or international security, or when such disclosure is to support the conduct of national intelligence and security investigations or to assist in anti-terrorism efforts.

M. To any federal agency to enable such agency to make determinations regarding the payment of federal benefits to the record subject in accordance with that agency's statutory responsibilities.

N. To foreign governments for the purpose of coordinating and conducting the removal of non-citizens from the United States to other nations under the Immigration and Nationality Act; and to international, foreign, intergovernmental, and multinational agencies, authorities, and organizations in accordance with law and formal or informal international arrangements.

O. To the DOJ Executive Office of Immigration Review (EOIR) or its contractors, consultants, or others performing or working on a contract for EOIR, for the purpose of providing information about non-citizens who are or may be placed in removal proceedings so that EOIR may arrange for the provision of educational services to those non-citizens under EOIR's Legal Orientation Program, or for other purposes or activities within the scope of the EOIR contract.

P. To disclose information to the DOJ EOIR and to the Board of Immigration Appeals, to the extent necessary to carry out their authorized duties pertaining to the adjudication of matters arising under the Immigration and Nationality Act.

Q. To attorneys or legal representatives for the purpose of facilitating group presentations to non-citizens in detention that will provide the non-citizens with information about their rights under U.S. immigration law and procedures.

R. To the Department of State in the processing of petitions or applications for benefits under the Immigration and Nationality Act, and all other immigration and nationality laws including treaties and reciprocal agreements; or when the Department of State requires information to consider or provide an informed response to a request for information from a foreign, international, or intergovernmental agency, authority, or organization about a non-citizen or an enforcement operation with transnational implications.

S. To OMB in connection with the review of private relief legislation as set forth in OMB Circular No. A-19 at any stage of the legislative coordination and clearance process as set forth in the Circular.

T. To federal, state, local, territorial, tribal, international, or foreign criminal, civil, or regulatory law enforcement authorities when the information is necessary for collaboration, coordination, and de-confliction of investigative matters, prosecutions, and/or other law enforcement actions to avoid duplicative or disruptive efforts and to ensure the safety of law enforcement officers who may be working on related law enforcement matters.

U. To the U.S. Marshals Service (USMS) concerning USMS prisoners that are or will be held in detention facilities operated by or on behalf of ICE, and to federal, state, local, tribal, or territorial law enforcement or correctional agencies concerning individuals in DHS custody that are to be transferred to such agency's custody, to coordinate the transportation, custody, and care of these individuals.

V. To third parties to facilitate placement or release of an individual (e.g., at a group home, homeless shelter) who has been or is about to be released from DHS custody but only such information that is relevant and necessary to arrange housing, continuing medical care, or other social services for the individual.

W. To victims and witnesses regarding custodial information, such as transfer to another custodial agency or location, release on bond, order of supervision, removal from the United States, or death in custody, about an individual who is the subject of a criminal or immigration investigation, proceeding, or prosecution. This would also authorize disclosure of custodial information to individuals with a legal responsibility to act on behalf of a victim or witness (e.g., attorney, parent, legal guardian) and individuals acting at the request of a victim or witness; as well as external victim notification systems that make such information available to victims and witnesses in electronic form.

X. To the Federal Bureau of Prisons (BOP) and other federal, state, local, territorial, tribal, and foreign law enforcement or custodial agencies for the purpose of facilitating the transfer of custody of an individual to or from that agency. This will include the transfer of information about unaccompanied minor children to the U.S. Department of Health and Human Services (HHS) to facilitate the custodial transfer of such children from DHS to HHS.

Y. To DOJ and other law enforcement or custodial agencies to facilitate payments and reporting under the State Criminal Alien Assistance Program or similar programs.

Z. To any law enforcement agency or custodial agency (such as a jail or prison) to serve that agency with notice of an immigration detainer, or to update or remove a previously issued immigration detainer, for an individual who is believed to be in that agency's custody.

AA. To DOJ, disclosure of DNA samples and related information as required by 28 CFR part 28.

BB. To DOJ, disclosure of arrest and removal information for inclusion in relevant DOJ law enforcement databases and for use in the enforcement of federal firearms laws (e.g., Brady Handgun Violence Prevention Act, as amended by the NICS Improvement Amendments Act).

CC. To the attorney or guardian ad litem of an individual's child, or to federal, state, local, tribal, territorial, or foreign governmental or quasi-governmental agencies or courts, to confirm the location, custodial status, removal, or voluntary departure of an individual from the United States, to facilitate the recipients' exercise of responsibilities pertaining to the custody, care, or legal rights (including issuance of a U.S. passport) of the individual's children, or the adjudication or collection of child support payments or other similar debts owed by the individual.

DD. To an individual or entity seeking to post or arrange, or who has already posted or arranged, an immigration bond for a noncitizen to aid the individual or entity in (1) identifying the location of the noncitizen; (2) posting the bond; (3) obtaining payments related to the bond; or (4) conducting other administrative or financial management activities related to the bond.

EE. To federal, state, local, tribal, territorial, or foreign government agencies or entities or multinational governmental agencies when DHS needs to exchange relevant data for the purpose of developing, testing, or implementing new software or technology whose purpose is related to this system of records.

FF. Limited detainee biographical information will be publicly disclosed via the ICE Online Detainee Locator System or any successor system for the purpose of identifying whether a detainee is in ICE custody and the custodial location.

GG. To courts, magistrates, administrative tribunals, opposing counsel, parties, and witnesses, in immigration, civil, or criminal proceedings (including discovery, presentation of evidence, and settlement negotiations) and when DHS determines that use of such records is relevant and necessary to the litigation before a court or adjudicative body when any of the following is a party to or have an interest in the litigation:

1. DHS or any component thereof;

2. Any employee of DHS in their official capacity;

3. Any employee of DHS in their individual capacity when DOJ or DHS has agreed to represent the employee; or

4. The United States, when DHS determines that litigation is likely to affect DHS or any of its components.

HH. To federal, state, local, tribal, territorial, international, or foreign government agencies or entities for the purpose of consulting with that agency or entity:

1. To assist in making a determination regarding redress for an individual in connection with the operations of a DHS component or program;

2. To verify the identity of an individual seeking redress in connection with the operations of a DHS component or program; or

3. To verify the accuracy of information submitted by an individual who has requested such redress on behalf of another individual.

II. To federal, state, local, tribal, territorial, or foreign governmental agencies; multilateral governmental organizations; or other public health entities, for the purposes of protecting the vital interests of a record subject or other persons, including to assist such agencies or organizations during an epidemiological investigation, in facilitating continuity of care, in preventing exposure to or transmission of a communicable or quarantinable disease of public health significance, or to combat other significant public health threats.

JJ. To foreign governments for the purpose of providing information about their citizens or permanent residents, or family members thereof, during local or national disasters or health emergencies.

KK. To a coroner for purposes of affirmatively identifying a deceased individual (whether or not such individual is deceased as a result of a crime) or cause of death.

LL. To a former employee of DHS for purposes of responding to an official inquiry by Federal, State, local, tribal, or territorial government agencies or professional licensing authorities; or facilitating communications with a former employee that may be relevant and necessary for personnel-related or other official purposes, when DHS requires information or consultation assistance from the former employee regarding a matter within that person's former area of responsibility.

MM. To federal, state, local, tribal, territorial, foreign, or international agencies, if the information is relevant and necessary to a requesting agency's decision concerning the hiring or retention of an individual, or the issuance, grant, renewal, suspension or revocation of a security clearance, license, contract, grant, or other benefit; or if the information is relevant and necessary to a DHS decision concerning the hiring or retention of an employee, the issuance of a security clearance, the reporting of an investigation of an employee, the letting of a contract, or the issuance of a license, grant, or other benefit.

NN. To a public or professional licensing organization when such information indicates, either by itself or in combination with other information, a violation or potential violation of professional standards, or reflects on the moral, educational, or professional qualifications of licensed professionals or those seeking to become licensed professionals.

OO. To an attorney or representative (as defined in 8 CFR 1.2, 202.1, 1001.1(f), or 1202.12) who is acting on behalf of an individual covered by this system of records in connection with any proceeding before U.S. Citizenship and Immigration Services (USCIS), ICE, CBP, or EOIR, as required by law or as deemed necessary in the discretion of the Department.

PP. To members of the public, with regard to disclosure of limited detainee biographical information for the purpose of facilitating the deposit of monies into detainees' accounts for telephone or commissary services in a detention facility.

QQ. To federal, state, local, tribal, or territorial government agencies seeking to verify or ascertain the citizenship or immigration status of any individual within the jurisdiction of the agency for any purpose authorized by law.

RR. To federal, state, local, tribal, and territorial courts or government agencies involved in criminal investigation or prosecution, pre-trial, sentencing, parole, probation, bail bonds, or any other aspect of the criminal justice process, and to defense counsel representing an individual in a domestic criminal proceeding, to ensure the integrity and efficiency of the criminal justice system by informing these recipients of the existence of an immigration detainer or the individual's status in removal proceedings, including removal or custodial status/location. Disclosure of the individual's A-Number and country of birth is also authorized to facilitate these recipients' use of the ICE Online Detainee Locator System for the purposes listed above.

SS. To a foreign government to notify it concerning its citizens or residents who are incapacitated, an unaccompanied minor, or deceased.

TT. To family members, guardians, committees, friends, or other agents identified by law or regulation to receive notification, decisions, and other papers as provided in 8 CFR 103.8 from DHS or EOIR following verification of a familial or agency relationship with a non-citizen when DHS is aware of indicia of incompetency or when a non-citizen has been determined to be mentally incompetent by an immigration judge.

UU. To an organization or person in either the public or private sector, either foreign or domestic, when there is a reason to believe that the recipient is or could become the target of a particular terrorist activity or conspiracy, or when the information is relevant to the protection of life, property, or other vital interests of a person.

VV. To clerks and judges of courts exercising naturalization jurisdiction for the purpose of granting or revoking naturalization.

WW. To federal, state, local, tribal, territorial, foreign, or international agencies, after discovery of such information, if DHS determines: (1) The information is relevant and necessary to that agency's decision concerning the hiring or retention of an individual, or issuance of a security clearance, license, contract, grant, or other benefit; and (2) Failure to disclose the information is likely to create a substantial risk to government facilities, equipment, or personnel; sensitive information; critical infrastructure; or public safety.

XX. To an appropriate federal, state, local, tribal, regional, foreign, or international law enforcement agency, where use is consistent with the official duties of the recipient agencyand the requirements set forth in a related memorandum of agreement between DHS and the recipient agency authorizing information sharing through LEISS for the purpose of criminal law enforcement, homeland security, or to support applicant background investigations for ICE law enforcement partners.

YY. To an appropriate federal, state, local, tribal, territorial, foreign, or international agency and third-party organizations assisting in the repatriation of non-citizens who are returning voluntarily to their home countries.

ZZ. To the news media and the public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute a clearly unwarranted invasion of personal privacy.

POLICIES AND PRACTICES FOR STORAGE OF RECORDS:

DHS/ICE stores records in this system electronically or on paper in secure facilities in a locked drawer behind a locked door. The records may be stored on magnetic disc, tape, and digital media.

POLICIES AND PRACTICES FOR RETRIEVAL OF RECORDS:

Records may be retrieved by name, biometric identifiers, identification numbers including, but not limited to, A-Number, fingerprint identification number, Social Security number, case or record number if applicable, case related data, or a combination of other personal identifiers including, but not limited to, date of birth and nationality.

POLICIES AND PRACTICES FOR RETENTION AND DISPOSAL OF RECORDS:

ICE retains records in accordance with an applicable National Archives and Records Administration (NARA) General Records Schedule (GRS) or a NARA-approved agency-specific records control schedule. ICE retains records of arrests, detentions, and removals in the Enforcement Integrated Database and its modules, such as the ENFORCE Alien Removal Module and the ICE Integrated Decision Support (IIDS), for seventy-five (75) years pursuant to the Biometric with Limited Biographical Data Schedule, DAA-563-2013-0001-0006.

The Online Detainee Locator System (ODLS) uses an extract of Enforcement Integrated Database data about current detainees and detainees that were released during the last sixty (60) days. Records are retained in the Online Detainee Locator System for as long as they meet the extract criteria in accordance with the schedule, N1-567-11-7. The electronic Travel Document System (eTD) stores travel documents for twenty (20) years after the issuance of a travel document or denial letter in accordance with the schedule, DAA-0567-2017-0004. Alternatives to Detention program records are retained for seven (7) years after the individual has been removed from the Alternatives to Detention program and is no longer being monitored in accordance with the schedule, DAA-567-2018-0001-0001.

ADMINISTRATIVE, TECHNICAL, AND PHYSICAL SAFEGUARDS:

DHS/ICE safeguards records in this system according to applicable rules and policies, including all applicable DHS automated systems security and access policies. DHS/ICE has imposed strict controls to minimize the risk of compromising the information that is being stored. Access to the computer system containing the records in this system is limited to those individuals who have a need to know the information for the performance of their official duties and who have appropriate clearances or permissions.

RECORD ACCESS PROCEDURES:

The Secretary of Homeland Security has exempted this system from the notification, access, and amendment procedures of the Privacy Act, and the Judicial Redress Act if applicable, because it is a law enforcement system. However, DHS/ICE will consider individual requests to determine whether or not information may be released. Thus, individuals seeking access to and notification of any record contained in this system of records, or seeking to contest its content, may submit a request in writing to the Chief Privacy Officer and ICE FOIA Officer whose contact information can be found at http://www.dhs.gov/foia. If an individual believes more than one component maintains Privacy Act records concerning them, the individual may submit the request to the Chief Privacy Officer and Chief Freedom of Information Act Officer, Department of Homeland Security, Washington, DC 20528-0655 or electronically at https://www.dhs.gov/dhs-foia-privacy-act-request-submission-form. Even if neither the Privacy Act nor the Judicial Redress Act provide a right of access, certain records about an individual may be available under the Freedom of Information Act.

When seeking records about oneself from this system of records or any other Departmental system of records, an individual's request must conform with the Privacy Act regulations set forth in 6 CFR part 5. The individual must first verify their identity, meaning that they must provide their full name, current address, and date and place of birth. The individual must sign the request, and their signature must either be notarized or submitted under 28 U.S.C. 1746, a law that permits statements to be made under penalty of perjury as a substitute for notarization. While no specific form is required, one may obtain forms for this purpose from the Chief Privacy Officer and Chief Freedom of Information Act Officer, http://www.dhs.gov/foia or 1-866-431-0486. In addition, individuals should:

• Explain why they believe the Department would have information on them;

• Identify which component(s) of the Department they believe may have the information about them;

• Specify when they believe the records would have been created; and

• Provide any other information that will help the FOIA staff determine which DHS component agency may have responsive records.

If the request is seeking records pertaining to another living individual, the request must include an authorization from the individual whose record is being requested, authorizing the release to the requester.

Without the above information, the component(s) may not be able to conduct an effective search, and the individual's request may be denied due to lack of specificity or lack of compliance with applicable regulations.

CONTESTING RECORD PROCEDURES:

For records covered by the Privacy Act or covered Judicial Redress Act records, individuals may make a request for amendment or correction of a Department record about the individual by writing directly to the Department component that maintains the record, unless the record is not subject to amendment or correction. The request should identify each record in question, state the amendment or correction desired, and state why the individual believes that the record is not accurate, relevant, timely, or complete. The individual may submit any documentation that would be helpful to support the request. If the individual believes that the same record is in more than one system of records, the request should state this belief and be addressed to each component that maintains a system of records containing the record.

NOTIFICATION PROCEDURES:

See “Record Access procedure.”

EXEMPTIONS PROMULGATED FOR THE SYSTEM:

The Secretary of Homeland Security, pursuant to 5 U.S.C. 552a(j)(2), has exempted this system from the following provisions of the Privacy Act: 5 U.S.C. secs. 552a(c)(3), (c)(4); (d); (e)(1), (e)(2), (e)(3), (e)(4)(G), (e)(4)(H), (e)(5), (e)(8); (f); and (g). Additionally, the Secretary of Homeland Security, pursuant to 5 U.S.C. 552a(k)(2), has exempted this system of records from the following provisions of the Privacy Act: 5 U.S.C. secs. 552a(c)(3); (d); (e)(1), (e)(4)(G), (e)(4)(H); and (f). When a record received from another system has been exempted in that source system under 5 U.S.C. secs. 552a(j)(2) or (k)(2), DHS will claim the same exemptions for those records that are claimed for the original primary systems of records from which they originated and claim any additional exemptions set forth here.

HISTORY:

81 FR 72080 (November 18, 2016); 80 FR 24269 (April 30, 2015); 80 FR 11214 (March 2, 2015); 75 FR 23274 (May 3, 2010); 75 FR 9238 (March 1, 2010); 74 FR 20719 (May 5, 2009); 74 FR 5665 (January 30, 2009); 74 FR 4965 (January 28, 2009).

Mason C. Clutter,
Chief Privacy Officer, Department of Homeland Security.

[FR Doc. 2024-14768 Filed 7-3-24; 8:45 am]

BILLING CODE 9111-28-P